DEPARTMENT OF HOMELAND SECURITY

Federal Emergency Management Agency

44 CFR Part 64

[Docket ID FEMA-2008-0020; Internal Agency Docket No. FEMA-8103]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Pennsylvania:
Aldan, Borough of, Delaware County | 420401 | August 26, 1974, Emerg; September 17, 1980, Reg; Date of this Federal Register publication, Susp. | Nov. 18, 2009 | Nov. 25, 2009.
Aston, Township of, Delaware County | 421602 | April 21, 1975, Emerg; July 16, 1981, Reg; Date of this Federal Register publication, Susp. | ......do | Do.
Bethel, Township of, Delaware County | 421606 | May 9, 1978, Emerg; August 10, 1979, Reg; Date of this Federal Register publication, Susp. | ......do | Do.
Brookhaven, Borough of, Delaware County | 420403 | October 22, 1971, Emerg; February 14, 1976, Reg; Date of this Federal Register publication, Susp. | ......do | Do.
Chadds Ford, Township of, Delaware County | 420402 | February 25, 1972, Emerg; September 5, 1979, Reg; Date of this Federal Register publication, Susp. | ......do | Do.
Chester, City of, Delaware County | 420404 | December 10, 1971, Emerg; August 1, 1979, Reg; Date of this Federal Register publication, Susp. | ......do | Do.
Chester, Township of, Delaware County | 420405 | December 3, 1971, Emerg; May 15, 1984, Reg; Date of this Federal Register publication, Susp. | ......do | Do.
Chester Heights, Borough of, Delaware County | 420406 | November 3, 1972, Emerg; January 16, 1980, Reg; Date of this Federal Register publication, Susp. | ......do | Do.
Clifton Heights, Borough of, Delaware County | 420407 | August 18, 1972, Emerg; May 16, 1977, Reg; Date of this Federal Register publication, Susp. | ......do | Do.
Collingdale, Borough of, Delaware County | 420408 | October 13, 1972, Emerg; February 2, 1977, Reg; Date of this Federal Register publication, Susp. | ......do | Do.
Colwyn, Borough of, Delaware County | 420409 | September 15, 1972, Emerg; May 2, 1977, Reg; Date of this Federal Register publication, Susp. | ......do | Do.
Concord, Township of, Delaware County | 420410 | February 25, 1972, Emerg; January 5, 1978, Reg; Date of this Federal Register publication, Susp. | ......do | Do.
Darby, Borough of, Delaware County | 420411 | September 8, 1972, Emerg; July 18, 1977, Reg; Date of this Federal Register publication, Susp. | ......do | Do.
Darby, Township of, Delaware County | 421603 | November 8, 1974, Emerg; April 3, 1984, Reg; Date of this Federal Register publication, Susp. | ......do | Do.
Eddystone, Borough of, Delaware County | 420413 | September 15, 1972, Emerg; February 2, 1977, Reg; Date of this Federal Register publication, Susp. | ......do | Do.
Edgmont, Township of, Delaware County | 420414 | March 31, 1974, Emerg; September 1, 1977, Reg; Date of this Federal Register publication, Susp. | ......do | Do.
Folcroft, Borough of, Delaware County | 420415 | February 2, 1973, Emerg; August 1, 1977, Reg; Date of this Federal Register publication, Susp. | ......do | Do.
Glenolden, Borough of, Delaware County | 420416 | June 30, 1972, Emerg; November 18, 1981, Reg; Date of this Federal Register publication, Susp. | ......do | Do.
Haverford, Township of, Delaware County | 420417 | June 16, 1972, Emerg; July 5, 1977, Reg; Date of this Federal Register publication, Susp. | ......do | Do.
Lansdowne, Borough of, Delaware County | 420418 | June 23, 1975, Emerg; February 3, 1982, Reg; Date of this Federal Register publication, Susp. | ......do | Do.
Lower Chichester, Township of, Delaware County | 421604 | October 9, 1974, Emerg; September 22, 1978, Reg; Date of this Federal Register publication, Susp. | ......do | Do.
Marcus Hook, Borough of, Delaware County | 420419 | June 10, 1975, Emerg; September 16, 1981, Reg; Date of this Federal Register publication, Susp. | ......do | Do.
Marple, Township of, Delaware County | 420420 | December 3, 1971, Emerg; September 1, 1977, Reg; Date of this Federal Register publication, Susp. | ......do | Do.
Media, Borough of, Delaware County | 420421 | May 18, 1976, Emerg; September 28, 1979, Reg; Date of this Federal Register publication, Susp. | ......do | Do.
Middletown, Township of, Delaware County | 420422 | December 1, 1972, Emerg; February 15, 1979, Reg; Date of this Federal Register publication, Susp. | ......do | Do.
Millbourne, Borough of, Delaware County | 422408 | August 7, 1975, Emerg; September 22, 1978, Reg; Date of this Federal Register publication, Susp. | ......do | Do.
Morton, Borough of, Delaware County | 420423 | June 18, 1974, Emerg; January 16, 1980, Reg; Date of this Federal Register publication, Susp. | ......do | Do.
Nether Providence, Township of, Delaware County | 420424 | November 12, 1971, Emerg; December 1, 1978, Reg; Date of this Federal Register publication, Susp. | ......do | Do.
Newtown, Township of, Delaware County | 420991 | September 15, 1972, Emerg; September 17, 1980, Reg; Date of this Federal Register publication, Susp. | ......do | Do.
Norwood, Borough of, Delaware County | 420425 | August 18, 1972, Emerg; May 13, 1982, Reg; Date of this Federal Register publication, Susp. | ......do | Do.
Parkside, Borough of, Delaware County | 420426 | December 10, 1971, Emerg; July 5, 1977, Reg; Date of this Federal Register publication, Susp. | ......do | Do.
Prospect Park, Borough of, Delaware County | 420427 | September 19, 1974, Emerg; March 18, 1980, Reg; Date of this Federal Register publication, Susp. | ......do | Do.
Radnor, Township of, Delaware County | 420428 | February 25, 1972, Emerg; August 1, 1977, Reg; Date of this Federal Register publication, Susp. | ......do | Do.
Ridley, Township of, Delaware County | 420429 | September 8, 1972, Emerg; January 6, 1983, Reg; Date of this Federal Register publication, Susp. | ......do | Do.
Ridley Park, Borough of, Delaware County | 420430 | August 29, 1974, Emerg; January 2, 1980, Reg; Date of this Federal Register publication, Susp. | ......do | Do.
Rose Valley, Borough of, Delaware County | 420431 | May 12, 1972, Emerg; February 2, 1977, Reg; Date of this Federal Register publication, Susp. | ......do | Do.
Rutledge, Borough of, Delaware County | 420432 | December 4, 1974, Emerg; March 18, 1980, Reg; Date of this Federal Register publication, Susp. | ......do | Do.
Sharon Hill, Borough of, Delaware County | 420433 | July 19, 1974, Emerg; August 15, 1979, Reg; Date of this Federal Register publication, Susp. | ......do | Do.
Springfield, Township of, Delaware County | 420434 | November 26, 1971, Emerg; January 19, 1978, Reg; Date of this Federal Register publication, Susp. | ......do | Do.
Swarthmore, Borough of, Delaware County | 420435 | March 9, 1973, Emerg; May 16, 1977, Reg; Date of this Federal Register publication, Susp. | ......do | Do.
Thornbury, Township of, Delaware County | 425390 | August 6, 1971, Emerg; July 24, 1973, Reg; Date of this Federal Register publication, Susp. | ......do | Do.
Tinicum, Township of, Delaware County | 421605 | February 7, 1975, Emerg; May 1, 1980, Reg; Date of this Federal Register publication, Susp. | ......do | Do.
Trainer, Borough of, Delaware County | 420437 | December 10, 1971, Emerg; September 30, 1977, Reg; Date of this Federal Register publication, Susp. | ......do | Do.
Upland, Borough of, Delaware County | 420438 | December 3, 1971, Emerg; December 10, 1976, Reg; Date of this Federal Register publication, Susp. | ......do | Do.
Upper Chichester, Township of, Delaware County | 420439 | December 17, 1971, Emerg; May 16, 1977, Reg; Date of this Federal Register publication, Susp. | ......do | Do.
Upper Darby, Township of, Delaware County | 420440 | December 10, 1971, Emerg; March 1, 1978, Reg; Date of this Federal Register publication, Susp. | ......do | Do.
Upper Providence, Township of, Delaware County | 420441 | December 3, 1971, Emerg; June 15, 1977, Reg; Date of this Federal Register publication, Susp. | ......do | Do.
Yeadon, Borough of, Delaware County | 420442 | September 19, 1974, Emerg; November 1, 1979, Reg; Date of this Federal Register publication, Susp. | ......do | Do.
Region IV
Alabama:
Macon County, Unincorporated Areas. | 010148 | May 29, 1975, Emerg; April 1, 1982, Reg; Date of this Federal Register publication, Susp. | ......do | Do.
Notasulga, Town of, Macon County | 010149 | July 2, 1975, Emerg; November 24, 1978, Reg; Date of this Federal Register publication, Susp. | ......do | Do.
Tuskegee, City of, Macon County | 010150 | August 8, 1975, Emerg; January 6, 1982, Reg; Date of this Federal Register publication, Susp. | ......do | Do.
Mississippi:
Bolton, Town of, Hinds County | 280216 | July 30, 1974, Emerg; April 3, 1978, Reg; Date of this Federal Register publication, Susp. | ......do | Do.
Clinton, City of, Hinds County | 280071 | January 15, 1974, Emerg; August 17, 1981, Reg; Date of this Federal Register publication, Susp. | ......do | Do.
Hinds County, Unincorporated Areas. | 280070 | December 19, 1973, Emerg; July 2, 1979, Reg; Date of this Federal Register publication, Susp. | ......do | Do.
Jackson, City of, Hinds County | 280072 | April 19, 1973, Emerg; April 1, 1980, Reg; Date of this Federal Register publication, Susp. | ......do | Do.
Pearl River Valley Water Supply District, Hinds, Leake, and Madison County | 280338 | N/A, Emerg; March 5, 1993, Reg; Date of this Federal Register publication, Susp. | ......do | Do.
Raymond, Town of, Hinds County | 280320 | April 17, 1980, Emerg; August 1, 1986, Reg; Date of this Federal Register publication, Susp. | ......do | Do.
Terry, Town of, Hinds County | 280073 | May 27, 1975, Emerg; April 3, 1978, Reg; Date of this Federal Register publication, Susp. | ......do | Do.
Tennessee:
Kingston, City of, Roane County | 470274 | August 18, 1975, Emerg; December 15, 1978, Reg; Date of this Federal Register publication, Susp. | ......do | Do.
Oak Ridge, City of, Roane County | 475441 | December 17, 1971, Emerg; October 27, 1972, Reg; Date of this Federal Register publication, Susp. | ......do | Do.
Roane County, Unincorporated Areas. | 470267 | October 21, 1974, Emerg; September 30, 1980, Reg; Date of this Federal Register publication, Susp. | ......do | Do.
Region V
Illinois:
Benton, City of, Franklin County | 170237 | April 3, 1975, Emerg; December 14, 1979, Reg; Date of this Federal Register publication, Susp. | ......do | Do.
Christopher, City of, Franklin County | 170238 | May 15, 1975, Emerg; August 19, 1987, Reg; Date of this Federal Register publication, Susp. | ......do | Do.
Freeman Spur, Village of, Franklin County | 170953 | July 3, 2003, Emerg; August 4, 2008, Reg; Date of this Federal Register publication, Susp. | ......do | Do.
Valier, Village of, Franklin County | 170870 | July 22, 1975, Emerg; July 2, 1987, Reg; Date of this Federal Register publication, Susp. | ......do | Do.
West City, Village of, Franklin County | 170872 | September 8, 1975, Emerg; May 25, 1978, Reg; Date of this Federal Register publication, Susp. | ......do | Do.
West Frankfort, City of, Franklin County | 170239 | May 13, 1975, Emerg; May 16, 1983, Reg; Date of this Federal Register publication, Susp. | ......do | Do.
Zeigler, City of, Franklin County | 170240 | January 6, 1983, Emerg; August 5, 1985, Reg; Date of this Federal Register publication, Susp. | ......do | Do.
Minnesota:
Douglas County, Unincorporated Areas. | 270623 | April 16, 1974, Emerg; September 1, 1988, Reg; Date of this Federal Register publication, Susp. | ......do | Do.
Ohio:
Campbell, City of, Mahoning County | 390368 | June 17, 1975, Emerg; September 3, 1979, Reg; Date of this Federal Register publication, Susp. | ......do | Do.
Canfield, City of, Mahoning County | 390369 | June 25, 1975, Emerg; November 1, 1978, Reg; Date of this Federal Register publication, Susp. | ......do | Do.
Champaign County, Unincorporated Areas. | 390055 | May 12, 1976, Emerg; April 3, 1985, Reg; Date of this Federal Register publication, Susp. | ......do | Do.
Christiansburg, Village of, Champaign County | 390056 | August 9, 1976, Emerg; November 2, 1984, Reg; Date of this Federal Register publication, Susp. | ......do | Do.
Columbiana, City of, Columbiana County | 390077 | February 26, 1975, Emerg; September 30, 1988, Reg; Date of this Federal Register publication, Susp. | ......do | Do.
Craig Beach, Village of, Mahoning County | 390745 | April 29, 1976, Emerg; April 17, 1978, Reg; Date of this Federal Register publication, Susp. | ......do | Do.
Lowellville, Village of, Mahoning County | 390620 | July 9, 1975, Emerg; September 3, 1979, Reg; Date of this Federal Register publication, Susp. | ......do | Do.
Mahoning County, Unincorporated Areas | 390367 | July 25, 1973, Emerg; February 15, 1979, Reg; Date of this Federal Register publication, Susp. | ......do | Do.
Mechanicsburg, Village of, Champaign County | 390057 | October 2, 1975, Emerg; September 1, 1986, Reg; Date of this Federal Register publication, Susp. | ......do | Do.
North Lewisburg, Village of, Champaign County | 390058 | February 24, 1975, Emerg; December 7, 1984, Reg; Date of this Federal Register publication, Susp. | ......do | Do.
Poland, Village of, Mahoning County | 390370 | May 23, 1975, Emerg; July 21, 1978, Reg; Date of this Federal Register publication, Susp. | ......do | Do.
Sebring, Village of, Mahoning County | 390371 | November 26, 1976, Emerg; August 11, 1978, Reg; Date of this Federal Register publication, Susp. | ......do | Do.
St. Paris, Village of, Champaign County | 390059 | February 24, 1977, Emerg; May 29, 1979, Reg; Date of this Federal Register publication, Susp. | ......do | Do.
Struthers, City of, Mahoning County | 390372 | April 8, 1975, Emerg; November 19, 1980, Reg; Date of this Federal Register publication, Susp. | ......do | Do.
Urbana, City of, Champaign County | 390060 | April 21, 1975, Emerg; April 3, 1984, Reg; Date of this Federal Register publication, Susp. | ......do | Do.
Youngstown, City of, Mahoning County | 390373 | April 18, 1973, Emerg; July 18, 1977, Reg; Date of this Federal Register publication, Susp. | ......do | Do.
Region VII
Iowa:
Montour, City of, Tama County | 190782 | April 25, 2001, Emerg; March 22, 2006, Reg; Date of this Federal Register publication, Susp. | ......do | Do.
Tama, City of, Tama County | 190262 | August 11, 1975, Emerg; January 17, 1990, Reg; Date of this Federal Register publication, Susp. | ......do | Do.
Tama County, Unincorporated Areas. | 190908 | N/A, Emerg; May 4, 2006, Reg; Date of this Federal Register publication, Susp. | ......do | Do.
Kansas:
Belle Plaine, City of, Sumner County | 200466 | July 25, 1975, Emerg; July 17, 1978, Reg; Date of this Federal Register publication, Susp. | ......do | Do.
Bennington, City of, Ottawa County | 200467 | February 6, 2009, Emerg; August 1, 2009, Reg; Date of this Federal Register publication, Susp. | ......do | Do.
Culver, City of, Ottawa County | 200257 | August 20, 1975, Emerg; January 1, 1987, Reg; Date of this Federal Register publication, Susp. | ......do | Do.
Delphos, City of, Ottawa County | 200487 | August 6, 1975, Emerg; July 1, 1988, Reg; Date of this Federal Register publication, Susp. | ......do | Do.
Geuda Springs, City of, Sumner County | 200414 | July 17, 2002, Emerg; NA Reg; Date of this Federal Register publication, Susp. | ......do | Do.
Mulvane, City of, Sumner County | 200326 | October 15, 1974, Emerg; September 29, 1978, Reg; Date of this Federal Register publication, Susp. | ......do | Do.
Sumner County, Unincorporated Areas | 200348 | September 16, 1975, Emerg; April 16, 1990, Reg; Date of this Federal Register publication, Susp. | ......do | Do.
Tescott, City of, Ottawa County | 200258 | April 22, 1975, Emerg; June 1, 1987, Reg; Date of this Federal Register publication, Susp. | ......do | Do.
Wellington, City of, Sumner County | 200349 | June 6, 1974, Emerg; April 16, 1990, Reg; Date of this Federal Register publication, Susp. | ......do | Do.
Region VIII
Utah:
Grantsville, City of, Tooele County | 490141 | July 9, 1975, Emerg; July 10, 1985, Reg; Date of this Federal Register publication, Susp. | ......do | Do.
Stockton, Town of, Tooele County | 490144 | March 23, 1976, Emerg; August 5, 1980, Reg; Date of this Federal Register publication, Susp. | ......do | Do.
Tooele, City of, Tooele County | 490145 | March 10, 1975, Emerg; September 29, 1989, Reg; Date of this Federal Register publication, Susp. | ......do | Do.
Tooele County, Unincorporated Areas | 490140 | June 7, 1976, Emerg; November 16, 1990, Reg; Date of this Federal Register publication, Susp. | ......do | Do.
Wendover, Town of, Tooele County | 490222 | July 25, 1975, Emerg; August 19, 1980, Reg; Date of this Federal Register publication, Susp. | ......do | Do.
Region IX
Arizona:
Colorado City, City of, Mohave County | 040059 | July 1, 1988, Emerg; August 4, 1988, Reg; Date of this Federal Register publication, Susp. | ......do | Do.
Fort Mojave Indian Tribe, Mohave County | 040133 | N/A, Emerg; March 18, 1996, Reg; Date of this Federal Register publication, Susp. | ......do | Do.
Region X
Idaho:
Bonner County, Unincorporated Areas | 160206 | May 14, 1975, Emerg; August 1, 1984, Reg; Date of this Federal Register publication, Susp. | ......do | Do.
Clark Fork, City of, Bonner County | 160132 | June 30, 1976, Emerg; March 15, 1982, Reg; Date of this Federal Register publication, Susp. | ......do | Do.
East Hope, City of, Bonner County | 160237 | May 15, 1997, Emerg; October 6, 2000, Reg; Date of this Federal Register publication, Susp. | ......do | Do.
Priest River, City of, Bonner County | 160026 | May 16, 1975, Emerg; February 17, 1982, Reg; Date of this Federal Register publication, Susp. | ......do | Do.
Sandpoint, City of, Bonner County | 160025 | March 26, 1975, Emerg; February 17, 1982, Reg; Date of this Federal Register publication, Susp. | ......do | Do.
Washington:
Granger, City of, Yakima County | 530219 | June 16, 1975, Emerg; December 22, 1980, Reg; Date of this Federal Register publication, Susp. | ......do | Do.
Mabton, City of, Yakima County | 530221 | April 5, 1976, Emerg; September 1, 1981, Reg; Date of this Federal Register publication, Susp. | ......do | Do.
Naches, City of, Yakima County | 530223 | April 29, 1975, Emerg; January 19, 1983, Reg; Date of this Federal Register publication, Susp. | ......do | Do.
Selah, City of, Yakima County | 530226 | July 18, 1974, Emerg; May 3, 1982, Reg; Date of this Federal Register publication, Susp. | ......do | Do.
Tieton, City of, Yakima County | 530265 | November 7, 1979, Emerg; March 18, 1985, Reg; Date of this Federal Register publication, Susp. | ......do | Do.
Toppenish, City of, Yakima County | 530228 | April 4, 1975, Emerg; July 17, 1978, Reg; Date of this Federal Register publication, Susp. | ......do | Do.
Union Gap, City of, Yakima County | 530229 | April 30, 1975, Emerg; May 2, 1983, Reg; Date of this Federal Register publication, Susp. | ......do | Do.
Wapato, City of, Yakima County | 530230 | March 7, 1975, Emerg; July 17, 1978, Reg; Date of this Federal Register publication, Susp. | ......do | Do.
Yakima, City of, Yakima County | 530311 | January 20, 1975, Emerg; December 15, 1981, Reg; Date of this Federal Register publication, Susp. | ......do | Do.
Yakima County, Unincorporated Areas | 530217 | April 11, 1974, Emerg; June 5, 1985, Reg; Date of this Federal Register publication, Susp. | ......do | Do.
* do = Ditto.
Code for reading third column: Emerg.—Emergency; Reg.—Regular; Susp.—Suspension.

Dated: November 5, 2009.
Edward L. Connor,
Acting Assistant Administrator, Mitigation Directorate, Department of Homeland Security, Federal Emergency Management Agency.

[FR Doc. E9-28309 Filed 11-24-09; 8:45 am]

BILLING CODE 9110-12-P